DEPARTMENT OF THE INTERIOR

Fish and Wildlife Service

[FWS-R9-MB-2010-N034; 91100-3740-GRNT 7C]

Meeting Announcements: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) will also meet. This meeting is also open to the public, and interested persons may present oral or written statements.

DATES: Council: Meeting is March 17, 2010, 1-4 p.m. If you are interested in presenting information at this public meeting, contact the Council Coordinator no later than March 8, 2010.

Advisory Group: Meeting is March 16, 2010, 9 a.m. through 3 p.m. If you are interested in presenting information at this public meeting, contact the Council Coordinator no later than March 8, 2010.

ADDRESSES: The Council meeting will be held at The Marsh Club, 2772 Old Hwy. 90, Vinton, LA 70668.

The Advisory Group meeting will be held at L'Auberge du Lac Hotel, 777 Avenue L'Auberge, Lake Charles, LA 70601.

FOR FURTHER INFORMATION CONTACT: Michael J. Johnson, Council Coordinator, by phone at (703) 358-1784; by e-mail at dbhc@fws.gov; or by U.S. mail at U.S. Fish and Wildlife Service, 4401 N. Fairfax Drive, Mail Stop MBSP 4075, Arlington, VA 22203.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA/Standard/US/Overview.shtm. Proposals require a minimum of 50 percent non-Federal matching funds. The Council will consider Canadian and U.S. small grant proposals at the meeting. The Commission will consider the Council's recommendation at its meeting tentatively scheduled for June 9, 2010.

The Advisory Group, named by the Secretary of the Interior under NMBCA (Pub. L. 106-247, 114 Stat. 593, July 20, 2000), will hold its meeting to advise the Director, Fish and Wildlife Service, on the strategic direction and management of the NMBCA program. Proposal due dates, application instructions, and eligibility requirements are available on the NMBCA Web site at http://www.fws.gov/birdhabitat/Grants/NMBCA/index.shtm.If you are interested in presenting information at either of these public meetings, contact the Council Coordinator no later than the date under DATES.

Dated: February 19, 2010.
Paul R. Schmidt,
Assistant Director, Migratory Birds.

[FR Doc. 2010-4012 Filed 2-25-10; 8:45 am]

BILLING CODE 4310-55-P